NATIONAL COUNCIL ON DISABILITY

Notice of Sunshine Act Meetings

TIME AND DATES: The Members of the National Council on Disability (NCD) will hold a quarterly meeting on Wednesday, December 4, 9:00 a.m.-5:15 p.m. (GMT), and Thursday, December 5, 2013, 9:00 a.m.-12:15 p.m. (GMT).

PLACE: The meeting will occur in Topeka, Kansas at the Kansas State House in the Old Supreme Court Chambers, located at SW 10th and SW Jackson, Topeka, KS 66612. The quarterly meeting is available to the public to attend in-person or by phone. Those attending in person should be prepared to process through Kansas State House security upon entrance. Those interested in joining the meeting by phone in a listen-only capacity (with the exception of the public comment period) may access the proceedings by phone by using the following call-in number: 1-888-417-8533; Passcode/Conference ID: 3860992. If asked, the call host's name is Jeff Rosen.

MATTERS TO BE CONSIDERED: The Council will receive reports from its standing committees; and receive panel presentations from policy experts on the topics of living with a disability in rural America, Kansas legislation on the rights of parents with disabilities, the Kansas Employment First initiative, and finally, on the topic of KanCare implementation. The Council will also receive public comment exclusively from Kansans on Day 1 and from all other interested parties on Day 2.

AGENDA: The times provided below are approximations for when each agenda item is anticipated to be discussed (all times CMT):

Wednesday, December 3:

9:00-9:30 a.m.—Call to Order and Welcome

9:30-10:00 a.m.—Committee Reports (Audit and Finance; Governance; Policy Development and Program Evaluation)

10:00-11:30 a.m.—Policy Panel and Discussion—Panel 1: Living with a Disability in Rural America

11:30 a.m.-1:00 p.m.—Break for Lunch

1:00-2:30 p.m.—Policy Panel and Discussion—Panel 2: Kansas Legislation for Parents with Disabilities

2:30-4:00 p.m.—Policy Panel and Discussion—Panel 3: Kansas Employment First

4:00-4:15 p.m.—Break

4:15-5:15 p.m.—Kansas Public Comments (phone and in-person; all topics; this public comment period is intended for Kansans only; all those who plan to make public comment are asked to please register their intent to comment in advance. Please see details below. A general public comment is open to all other interested parties on Day 2 of the Council meeting)

5:15 p.m.—Adjourn

Thursday, December 5:

9:00-9:30 a.m.—Call to Order and Welcome

9:30-11:00 a.m.—Policy Panel and Discussion—Panel 4: KanCare Implementation

11:00-11:15 a.m.—Break

11:15-11:45 a.m.—Public Comment (phone and in-person; all topics)

11:45 a.m.-12:15 p.m.—Council Business continued

12:15 p.m.-Council Meeting Adjourns

PUBLIC COMMENT REGISTRATION: To better facilitate NCD's public comment periods, any individual interested in providing public comment will be asked to register their intent to provide comment in advance by sending an email to PublicComment@ncd.gov with the subject line “Public Comment, Topeka, KS” with your name, organization, state, and topic of comment included in the body of your email. Full-length written public comments may also be sent to that email address. All emails to register for public comment at the October quarterly meeting must be received by Monday, December 2, 2013. Priority will be given on both days to those individuals who are in-person to provide their comments. Those commenters on the phone will be called on according to the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for each day of the board meeting. For Wednesday, beginning at 9:00 a.m., CMT, the web link to access CART is http://www.streamtext.net/text.aspx?event=120413NCD1000am. For Thursday, beginning at 9:00 a.m., CMT, the web link to access CART is http://www.streamtext.net/text.aspx?event=120513NCD1000am. Those who plan to attend the meeting in-person and require accommodations should notify NCD as soon as possible to allow time to make arrangements.

Please note: To help reduce exposure to fragrances for those with multiple chemical sensitivities, NCD requests that all those attending the meeting in person please refrain from wearing scented personal care products such as perfumes, hairsprays, colognes, and deodorants.

Dated: November 15, 2013.
Rebecca Cokley,
Executive Director.

[FR Doc. 2013-27776 Filed 11-15-13; 11:15 am]

BILLING CODE 6820-MA-P